DEPARTMENT OF TRANSPORTATION

Federal Railroad Administration

49 CFR Part 270

[Docket No. FRA-2011-0060, Notice No. 6]

RIN 2130-AC31

System Safety Program

AGENCY: Federal Railroad Administration (FRA), Department of Transportation.

ACTION: Final rule; stay of regulations.

SUMMARY: On August 12, 2016, FRA published a final rule requiring commuter and intercity passenger railroads to develop and implement a system safety program (SSP) to improve the safety of their operations. On February 10, 2017, FRA stayed the SSP final rule's requirements until March 21, 2017, and on March 20, 2017, FRA extended the stay to May 22, 2017. This document extends that stay until June 5, 2017.

DATES: Effective May 18, 2017, 49 CFR part 270 is stayed until June 5, 2017.

FOR FURTHER INFORMATION CONTACT: Matthew Navarrete, Trial Attorney, U.S. Department of Transportation, Federal Railroad Administration, Office of Chief Counsel; telephone: 202-493-0138; email: Matthew.Navarrete@dot.gov.

SUPPLEMENTARY INFORMATION: On August 12, 2016, FRA published a final rule requiring commuter and intercity passenger railroads to develop and implement an SSP to improve the safety of their operations. See 81 FR 53850. On February 10, 2017, FRA stayed the SSP final rule's requirements until March 21, 2017 consistent with the new Administration's guidance issued January 20, 2017, intended to provide the Administration an adequate opportunity to review new and pending regulations. 82 FR 10443 (Feb. 13, 2017). To provide additional time for that review, FRA extended the stay until May 22, 2017. 82 FR 14476 (Mar. 21, 2017). To continue this review, FRA needs to extend the stay until June 5, 2017.

FRA's implementation of this action without opportunity for public comment is based on the good cause exceptions in 5 U.S.C. 553(b)(B) and 553(d)(3), in that seeking public comment is impracticable, unnecessary, and contrary to the public interest. The delay in the effective date until June 5, 2017, is necessary to provide the opportunity for further review and consideration of this new regulation, consistent with the new Administration's January 20, 2017 guidance. Given the imminence of the effective date of the “System Safety Program” final rule, seeking prior public comment on this temporary delay would be impractical, as well as contrary to the public interest in the orderly promulgation and implementation of regulations.

Authority: 49 U.S.C. 20103, 20106-20107, 20118-20119, 20156, 21301, 21304, 21311; 28 U.S.C. 2461, note; and 49 CFR 1.89.

Issued in Washington, DC, on May 18, 2017.
Patrick T. Warren,
Executive Director.

[FR Doc. 2017-10519 Filed 5-18-17; 4:15 pm]

BILLING CODE 4910-06-P